SMALL BUSINESS ADMINISTRATION

Revocation of License of Small Business Investment Company

Pursuant to the authority granted to the United States Small Business Administration by the Final Order of the United States District Court of the District of New Jersey, dated September 6, 2006, the United States Small Business Administration hereby revokes the license of Bishop Capital, L.P., a New Jersey limited partnership, to function as a small business investment company under the Small Business Investment Company License No. 02/02-0503 issued to Bishop Capital, L.P. on August 27, 1987 and said license is hereby declared null and void as of September 28, 2006.

Small Business Administration.
Dated: September 28, 2006.
Jaime Guzman-Fournier,
Associate Administrator for Investment.

[FR Doc. E6-16498 Filed 10-4-06; 8:45 am]

BILLING CODE 8025-01-P